DEPARTMENT OF TRANSPORTATION

Federal Aviation Administration

14 CFR Part 39

[Docket No. 2001-SW-23-AD]

RIN 2120-AA64

Airworthiness Directives; Eurocopter France Model EC120B Helicopters

AGENCY: Federal Aviation Administration, DOT.

ACTION: Notice of proposed rulemaking (NPRM).

SUMMARY: This document proposes the supersedure of an existing airworthiness directive (AD) for Eurocopter France (ECF) Model EC120B helicopters. That AD currently requires adjusting the clearance of the cabin sliding door if necessary. This action would require adding an end stop to the front rail and modifying the rear stop of the middle rail to increase its adjustment range for certain cabin sliding doors. This proposal is prompted by an in-flight loss of a cabin sliding door, which had been locked in the open position. The actions specified by the proposed AD are intended to prevent in-flight loss of a cabin sliding door, impact with the horizontal stabilizer or fenestron tail rotor, and subsequent loss of control of the helicopter.

DATES: Comments must be received on or before October 22, 2001.

ADDRESSES: Submit comments in triplicate to the Federal Aviation Administration (FAA), Office of the Regional Counsel, Southwest Region, Attention: Rules Docket No. 2001-SW-23-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments, will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2001-SW-23-AD.” The postcard will be date stamped and returned to the commenter.

Availability of NPRMs

Any person may obtain a copy of this NPRM by submitting a request to the FAA, Office of the Regional Counsel, Southwest Region, Attention: Rules Docket No. 2001-SW-23-AD, 2601 Meacham Blvd., Room 663, Fort Worth, Texas 76137.

Discussion

On August 21, 2000, the FAA issued AD 2001-17-07, Amendment 39-11881 (65 FR 52012, August 28, 2000), to require adjusting the clearance of any cabin sliding door to a minimum of 3 mm from the aft end of the rail before further flight with the door in the open position. This action was prompted by a report of an in-flight loss of the cabin sliding door. An investigation determined that the loss of the door was due to the forward upper roller being out of its guide rail. The door edge thus exposed to the slipstream caused the forward lower roller train to be driven out of the guide rail due to the aerodynamic loads. The door aft hinges failed, and the door departed from the helicopter. The requirements of that AD are intended to prevent in-flight loss of a cabin sliding door; impact with the horizontal stabilizer, main rotor, or fenestron tail rotor; and subsequent loss of control of the helicopter.

Since issuing that AD, which requires adjusting the cabin sliding doors, the manufacturer has issued ECF Alert Service Bulletin No. 52A004, Revision 1, dated April 19, 2001 (ASB). That ASB specifies adding a stop to the front rail and modifying the rear stop of the middle rail of the cabin sliding doors. In addition, the Direction Generale De L'Aviation Civile (DGAC), the airworthiness authority for France, issued AD 2000-285-005(A) R2, dated May 16, 2001, which required compliance with the ASB.

This helicopter model is manufactured in France and is type certificated for operation in the United States under the provisions of 14 CFR 21.29 and the applicable bilateral agreement. Pursuant to this bilateral agreement, the DGAC has kept the FAA informed of the situation described above. The FAA has examined the findings of the DGAC, reviewed all available information, and determined that AD action is necessary for products of this type design that are certificated for operation in the United States.

We have identified an unsafe condition that is likely to exist or develop on other ECF Model EC120B helicopters of the same type design. The proposed AD would supersede AD 2000-17-07 to require, within 90 days after the effective date of the AD or before the next flight with a door open, whichever occurs first, adding a stop to the front rail and modifying the rear stop of the middle rail of the cabin sliding doors.

The FAA estimates that 24 helicopters of U.S. registry would be affected by this proposed AD, that it would take approximately 2 work hours per helicopter to add and modify the cabin sliding door stops, and that the average labor rate is $60 per work hour. Required parts would cost approximately $25 per helicopter. Based on these figures, the total cost impact of the proposed AD on U.S. operators is estimated to be $3480.

The regulations proposed herein would not have a substantial direct effect on the States, on the relationship between the national Government and the States, or on the distribution of power and responsibilities among the various levels of government. Therefore, it is determined that this proposal would not have federalism implications under Executive Order 13132.

For the reasons discussed above, I certify that this proposed regulation (1) Is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11881 (65 FR 52012, August 28, 2000), and by adding a new airworthiness directive (AD), to read as follows:

Eurocopter France: Docket No. 2001-SW-23-AD. Supersedes AD 2000-17-07, Amendment 39-11881, Docket No. 2000-SW-33-AD.

Applicability: Model EC120B, serial number 1169 and below, with a cabin sliding door rail, part number C533C8102201, C533C8102202, C533C8103201, or C533C8103202, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required within 90 days or before the next flight with the door open, whichever occurs first, unless accomplished previously.

To prevent in-flight loss of a cabin sliding door, impact with the horizontal stabilizer or fenestron tail rotor, and subsequent loss of control of the helicopter, accomplish the following:

(a) Add a stop to the front rail and modify the rear stop of the middle rail in accordance with the Operational Procedure, paragraph 2.B., of Eurocopter France Alert Service Bulletin No. 52A004, Revision 1, dated April 19, 2001.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits may be issued in accordance with 14 CFR 21.197 and 21.199 to operate the helicopter with the sliding cabin doors closed or removed to a location where the requirements of this AD can be accomplished.

Note 3: The subject of this AD is addressed in Direction Générale De L'Aviation Civile (France) AD 2000-285-005(A) R2, dated May 16, 2001.

Issued in Fort Worth, Texas, on August 14, 2001.
Eric Bries,
Acting Manager, Rotorcraft Directorate, Aircraft Certification Service.

[FR Doc. 01-21232 Filed 8-22-01; 8:45 am]

BILLING CODE 4910-13-U